DEPARTMENT OF COMMERCE

National Oceanic and Atmospheric Administration

[RTID 0648-XC146]

Fisheries of the South Atlantic and Gulf of Mexico; South Atlantic Fishery Management Council and Gulf of Mexico Fishery Management Council; Public Meetings

AGENCY: National Marine Fisheries Service (NMFS), National Oceanic and Atmospheric Administration (NOAA), Commerce.

ACTION: Notice of a joint public meeting.

SUMMARY: The South Atlantic Fishery Management Council's (SAFMC) and Gulf of Mexico Fishery Management Council's (GMFMC) will hold a joint meeting of their Scientific and Statistical Committees (SSC) via webinar.

DATES: The joint SSC meeting will take place Thursday, August 4, 2022, from 9 a.m. to 5 p.m., EDT.

ADDRESSES: The meeting will be held via webinar.

Council addresses: South Atlantic Fishery Management Council, 4055 Faber Place Drive, Suite 201, N Charleston, SC 29405; Gulf of Mexico Fishery Management Council, 4107 West Spruce Street, Suite 200, Tampa, FL 33607.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION: The meeting is open to the public via webinar as it occurs. Webinar registration is required. Information regarding webinar registration will be posted to the SAFMC's website at: https://safmc.net/scientific-and-statistical-committee-meeting/. The meeting agenda, briefing book materials, and online comment form will be posted to the SAFMC's website two weeks prior to the meeting. Written comment on SSC agenda topics is to be distributed to the Committees through the Council office, similar to all other briefing materials. For this meeting, the deadline for submission of written comment is 9 a.m. EDT, Thursday, August 4, 2022.

The following agenda items will be addressed by the SSCs during the meeting:

1. Review, discuss, and provide feedback on the southeastern yellowtail snapper interim analysis projections and uncertainties. Provide fishing level recommendations using the previously reviewed Southeast Data, Assessment, and Review (SEDAR) 64 assessment and recent interim analysis for southeastern yellowtail snapper. (Joint South Atlantic and Gulf of Mexico SSCs)

2. Review, discuss, and provide feedback on the operational assessment for South Atlantic Spanish mackerel projections and uncertainties, and provide fishing level recommendations. (South Atlantic SSC only)

The SSCs will provide guidance to staff and recommendations for Council consideration as appropriate.

Multiple opportunities for comment on agenda items will be provided during SSC meeting. Open comment periods will be provided at the start of the meeting and near the conclusion. Those interested in providing comment should indicate such in the manner requested by the Chair, who will then recognize individuals to provide comment. Additional opportunities for comment on specific agenda items will be provided, as each item is discussed, between initial presentations and SSC discussion. Those interested in providing comment should indicate such in the manner requested by the Chair, who will then recognize individuals to provide comment. All comments are part of the record of the meeting.

Although non-emergency issues not contained in the meeting agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 3 business days prior to the meeting.

Note: The times and sequence specified in this agenda are subject to change.

Authority: 16 U.S.C. 1801 et seq.

Dated: July 12, 2022.
Tracey L. Thompson,
Acting Deputy Director, Office of Sustainable Fisheries, National Marine Fisheries Service.

[FR Doc. 2022-15152 Filed 7-14-22; 8:45 am]

BILLING CODE 3510-22-P